DEPARTMENT OF COMMERCE

International Trade Administration

[A-570-601]

Tapered Roller Bearings and Parts Thereof, Finished and Unfinished, From the People's Republic of China: Final Results of 2002-2003 Administrative Review and Partial Rescission of Review

AGENCY: Import Administration, International Trade Administration, Department of Commerce.

ACTION: Notice of final results of 2002-2003 administrative review and partial rescission of the review.

SUMMARY: We have determined that sales of tapered roller bearings and parts thereof, finished and unfinished, from the People's Republic of China, were not made below normal value during the period June 1, 2002, through May 31, 2003. We are also rescinding the review, in part, in accordance with 19 CFR 351.213(d)(3).

Based on our review of comments received and a reexamination of surrogate value data, we have made certain changes to the margin calculation of the reviewed company. Consequently, the final results differ from the preliminary results. The final weighted-average dumping margin for this firm is listed below in the section entitled “Final Results of the Review.” Based on these final results of review, we will instruct U.S. Customs and Border Protection not to assess antidumping duties on the subject merchandise exported by this company.

EFFECTIVE DATE: July 13, 2004.

FOR FURTHER INFORMATION CONTACT: S. Anthony Grasso or Andrew R. Smith, Group 1, Office I, Antidumping/Countervailing Duty Enforcement, Import Administration, International Trade Administration, U.S. Department of Commerce, 14th Street and Constitution Avenue NW., Washington, DC 20230; telephone (202) 482-3853 or (202) 482-1276, respectively.

Background

On March 5, 2004, the Department published the preliminary results of this review of tapered roller bearings and parts thereof, finished and unfinished (“TRBs”) from the People's Republic of China (“PRC”). See Tapered Roller Bearings and Parts Thereof, Finished and Unfinished, From the People's Republic of China: Preliminary Results of 2002-2003 Administrative Review and Partial Rescission of Review, 69 FR 10424 (March 5, 2004) (“Preliminary Results”). The period of review (“POR”) is June 1, 2002, through May 31, 2003. This review covers the following producers or exporters (referred to collectively as “the respondents”): Peer Bearing Company—Changshan (“CPZ”), Shanghai United Bearing Co., Ltd. (“SUB”), and Yantai Timken Co., Ltd. (“Yantai Timken”). We invited parties to comment on the Preliminary Results. On April 12, 2004, we received a case brief from the Timken Company (“the petitioner”). On April 19, 2004, SUB submitted a rebuttal brief.

The Department has conducted this administrative review in accordance with section 751 of the Tariff Act of 1930, as amended (“the Act”).

Scope of Review

Merchandise covered by this order is TRBs from the PRC; flange, take up cartridge, and hanger units incorporating tapered roller bearings; and tapered roller housings (except pillow blocks) incorporating tapered rollers, with or without spindles, whether or not for automotive use. This merchandise is currently classifiable under the Harmonized Tariff Schedule of the United States (“HTSUS”) item numbers 8482.20.00, 8482.91.00.50, 8482.99.30, 8483.20.40, 8483.20.80, 8483.30.80, 8483.90.20, 8483.90.30, 8483.90.80, 8708.99.80.15, and 8708.99.80.80. Although the HTSUS item numbers are provided for convenience and customs purposes, the written description of the scope of the order and this review is dispositive.

Rescission of Review in Part

As noted in the Preliminary Results, on August 20, 2003, Yantai Timken, and on January 21, 2004, CPZ, withdrew their requests for review. The petitioner did not request reviews of either of these companies. Therefore, pursuant to 19 CFR § 351.213(d)(1), for the reasons explained in the Preliminary Results, and because no other party requested a review of these companies, we are rescinding the review with respect to CPZ and Yantai Timken.

Analysis of Comments Received

All issues raised in the case and rebuttal briefs by parties to this review are addressed in the “Issues and Decision Memorandum” from Jeffrey May, Deputy Assistant Secretary, Group I, Import Administration, to James J. Jochum, Assistant Secretary, Import Administration, dated July 6, 2004 (“Decision Memorandum”), which is hereby adopted by this notice. Attached to this notice as an Appendix is a list of the issues that parties have raised and to which we have responded in the Decision Memorandum. Parties can find a complete discussion of all issues raised in this investigation and the corresponding recommendations in this public memorandum, which is on file in the Department's Central Records Unit, located in Room B-099 of the main Department building (“CRU”). In addition, a complete version of the Decision Memorandum can be accessed directly on the Internet at http://ia.ita.doc.gov/frn under the heading “China PRC.” The paper copy and electronic version of the Decision Memorandum are identical in content.

Changes Since the Preliminary Results

Based on our review of comments received and a reexamination of surrogate value data, we have made one change to our calculations for the final results. To calculate the surrogate value for the steel used to manufacture rollers, we used Japanese exports to Indonesia instead of the Indonesian import data relied on in the Preliminary Results. See Decision Memorandum at Comment 2.

Final Results of Review

We determine that the following dumping margin exists for the period June 1, 2002, through May 31, 2003:

Exporter/manufacturer | Weighted- average margin percentage
Shanghai United Bearing Co., Ltd | 0.00

Assessment Rates

In accordance with 19 CFR 351.212(b)(1), we have calculated importer (or customer)-specific assessment rates for the merchandise subject to this review. To determine whether the duty assessment rates were de minimis, in accordance with the requirement set forth in 19 CFR 351.106(c)(2), we calculated importer (or customer)-specific ad valorem rates by aggregating the dumping margins calculated for all U.S. sales to that importer (or customer) and dividing this amount by the total value of the sales to that importer (or customer). Where an importer (or customer)-specific ad valorem rate was greater than de minimis, we calculated a per unit assessment rate by aggregating the dumping margins calculated for all U.S. sales to that importer (or customer) and dividing this amount by the total quantity sold to that importer (or customer). Where an importer (or customer)-specific ad valorem rate was de minimis, we will order the Customs Service to liquidate without regard to antidumping duties.

All other entries of the subject merchandise during the POR will be liquidated at the antidumping duty rate in place at the time of entry.

The Department will issue appropriate assessment instructions directly to U.S. Customs and Border Protection within 15 days of publication of these final results of review.

Cash Deposit Requirements

The following cash deposit rates will be effective upon publication of these final results for all shipments of TRBs from the PRC entered, or withdrawn from warehouse, for consumption on or after the publication date of this notice, as provided for by section 751(a)(1) of the Act: (1) The cash deposit rates for the reviewed company will be the rate shown above except that, for firms whose weighted-average margins are less than 0.5%, and therefore, de minimis, the Department shall require no deposit of estimated antidumping duties; (2) for a company previously found to be entitled to a separate rate and for which no review was requested, the cash deposit rate will be the rate established in the most recent review of that company; (3) for all other PRC exporters of subject merchandise, the rate will be the PRC country-wide rate, which is 60.95 percent; and (4) for non-PRC exporters of subject merchandise from the PRC, the cash deposit rate will be the rate applicable to the PRC exporter that supplied that exporter. These deposit rates shall remain in effect until publication of the final results of the next administrative review.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination and notice in accordance with sections 751(a)(1) and 771(i) of the Act.

Dated: July 6, 2004.
James J. Jochum,
Assistant Secretary for Import Administration.

Appendix—List of Comments and Issues in the Decision Memorandum

Comment 1: Source of Data Used to Benchmark the Cup and Cone Surrogate Data

Comment 2: Use of Japanese Exports to Value the Roller Steel Input

Comment 3: Use of an Indian Inflator to Adjust the Indian Price of Electricity

Comment 4: U.S. Customs Duties and U.S. Inland Freight Possibly Incurred by Shanghai United Bearing Co., Ltd.

Comment 5: Shanghai United Bearing Co., Ltd.'s U.S. Sales.

[FR Doc. 04-15836 Filed 7-12-04; 8:45 am]

BILLING CODE 3510-DS-P